NATIONAL COMMUNICATIONS SYSTEM

National Security Telecommunications Advisory Committee

AGENCY: National Communications System (NCS).

ACTION: Notice of closed meetings.

SUMMARY: A meeting of the President's National Security Telecommunications Advisory Committee (NSTAC) will be held via conference call on Wednesday, September 17, 2003, from 1 p.m. to 2 p.m. The NSTAC is subject to the Federal Advisory Committee Act (FACA), Pub. L. 92-463, as amended (5 U.S.C. App. II.) The conference call will be closed to the public to allow for oral discussion of:

• Interdependencies of Critical Infrastructures

• Issues regarding security matters due to diversity of ownership, control, and access to U.S. critical telecommunication and information technology infrastructures

Since revealing details of infrastructure interdependencies could reveal predominantly internal agency records that would significantly risk circumvention of agency regulations or statutes intended to protect critical infrastructures, closing this portion of the meeting is consistent with 5 U.S.C. 552b(c)(2). In order to assess security matters raised by diversity of ownership within the telecommunications and information technology infrastructures, it is necessary to close this portion of the meeting to protect proprietary information NSTAC members may need to present on this topic, consistent with 5 U.S.C. 552b(c)(4). Based on the sensitivity of these topics, this conference call will be closed.

FOR FURTHER INFORMATION CONTACT: Call Ms. Kiesha Gebreyes, (703) 607-6134, or write the Manager, National Communications System, 701 South Court House Road, Arlington, Virginia 22204-2198.

Peter M. Fonash,
Federal Register Liaison Officer, National Communications System.

[FR Doc. 03-22700 Filed 9-5-03; 8:45 am]

BILLING CODE 5001-08-M